DEPARTMENT OF COMMERCE

International Trade Administration

[A-533-903]

Raw Honey From India: Final Results and Partial Rescission of Antidumping Duty Administrative Review; 2021-2023

AGENCY: Enforcement and Compliance, International Trade Administration, Department of Commerce.

SUMMARY: The U.S. Department of Commerce (Commerce) determines that sales of raw honey from India were made at less than normal value (NV) during the period of review (POR) November 23, 2021, through May 31, 2023. We are also rescinding this review with respect to 14 companies that had no entries of the subject merchandise during the POR.

DATES: Applicable April 22, 2025.

FOR FURTHER INFORMATION CONTACT: Brittany Bauer or Javier Barrientos, AD/CVD Operations, Office V, Enforcement and Compliance, International Trade Administration, U.S. Department of Commerce, 1401 Constitution Avenue NW, Washington, DC 20230; telephone: (202) 482-3860 or (202) 482-2243, respectively.

SUPPLEMENTARY INFORMATION:

Background

On July 9, 2024, Commerce published the Preliminary Results and invited interested parties to comment.¹ On September 19, 2024, the petitioners ² and Indocan Honey Private Limited (Indocan) submitted case briefs,³ and, on October 3, 2024, Allied Natural Product (Allied) and Indocan submitted a joint rebuttal brief.⁴ On November 12, 2024, we extended the deadline for these final results until January 10, 2025.⁵ On December 9, 2024, Commerce tolled the deadline for these final results until April 10, 2025,⁶ and, on April 10, 2025, we extended the deadline for the final results by an additional two days, to April 14, 2025.⁷ For a complete description of the events that occurred since the Preliminary Results, see the Issues and Decision Memorandum.⁸

¹ See Raw Honey from India: Preliminary Results of Antidumping Duty Administrative Review and Preliminary Partial Rescission of Antidumping Duty Administrative Review; 2021-2023, 89 FR 56306 (July 9, 2024) (Preliminary Results), and accompanying Preliminary Decision Memorandum.

² The petitioners in this case are the American Honey Producers Association and the Sioux Honey Association.

³ See Petitioners' Letter, “Petitioners' Case Brief Concerning Allied Natural Product and Indocan Honey Private Limited,” dated September 19, 2024; and Indocan's Letter, “Case Brief,” dated September 19, 2024.

⁴ See Allied and Indocan's Letter, “Rebuttal Case Brief,” dated October 3, 2024.

⁵ See Memorandum, “Extension of Deadline for Final Results of Antidumping Duty Administrative Review,” dated November 12, 2024.

⁶ See Memorandum, “Tolling of Deadlines for Antidumping and Countervailing Duty Proceedings,” dated December 9, 2024.

⁷ See Memorandum, “Extension of Deadline for Final Results of Antidumping Duty Administrative Review; 2021-2023,” dated April 10, 2025. Two days after April 10, 2025, is Saturday, April 12, 2025. Commerce's practice dictates that, where a deadline falls on a weekend or federal holiday, the appropriate deadline is the next business day, which, in this case, is Monday, April 14, 2025. See Notice of Clarification: Application of “Next Business Day” Rule for Administrative Determination Deadlines Pursuant to the Tariff Act of 1930, As Amended, 70 FR 24533 (May 10, 2005).

⁸ See Memorandum, “Issues and Decision Memorandum for the Final Results of the Administrative Review of the Antidumping Duty Order on Raw Shrimp from India; 2021-2023,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Order ⁹

The product covered by this Order is raw honey from India. For a full description of the scope, see the Issues and Decision Memorandum.

⁹ See Raw Honey from Argentina, Brazil, India, and the Socialist Republic of Vietnam: Antidumping Duty Orders, 87 FR 35501 (June 10, 2022) (Order).

Partial Rescission of Administrative Review

In the Preliminary Results, we stated that we intended to rescind this review pursuant to 19 CFR 351.213(d)(3) with respect to 14 companies ¹⁰ for which U.S. Customs and Border Protection (CBP) data showed no suspended entries of the subject merchandise during the POR.¹¹ No party filed comments with respect to this preliminary finding and we received no information to contradict it. Therefore, we are rescinding this administrative review with respect to these 14 companies.

¹⁰ See Appendix II for a list of these companies.

¹¹ See Preliminary Results, 89 FR at 56306-07.

Analysis of Comments Received

We addressed the issues raised in the case and rebuttal briefs in the Issues and Decision Memorandum. A list of the issues addressed in the Issues and Decision Memorandum is included in Appendix I to this notice.

Changes Since the Preliminary Results

Based on our review of the record, including comments received from interested parties, we have made changes to the Preliminary Results margin calculations for Allied and Indocan.¹²

¹² See Issues and Decision Memorandum at Comments 3-5, 7-8, and 10.

Rates for Non-Selected Respondents

The Tariff Act of 1930, as amended (the Act), and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

For these final results, we have calculated a weighted-average dumping margin for Allied and Indocan that is not zero, de minimis, or determined entirely on the basis of facts available. Therefore, Commerce assigned a margin to the all-others rate companies based on the simple average of the two mandatory respondents' rates, as listed below.¹³

¹³ We calculated a simple average margin because the record does not contain usable publicly ranged data for both respondents and computing a weighted-average margin using actual data would disclose business proprietary information.

Final Results of Administrative Review

Commerce determines that the following weighted-average dumping margins exist for the period November 23, 2021, through May 31, 2023:

Exporter/producer | Weighted average dumping margin (percent)
Allied Natural Product | 3.96
Indocan Honey Private Limited; Queenbee Foods Private Limited; and Pearlcot Enterprises ¹⁴ | 0.66
Companies Not Selected for Individual Review | 2.31

Disclosure

Commerce intends to disclose the calculations performed in connection with these final results of review to interested parties within five days after public announcement of the final results or, if there is no public announcement, within five days of the date of publication of this notice in the Federal Register, in accordance with 19 CFR 351.224(b).

¹⁴ Commerce has treated Indocan as a single entity with Queenbee Foods Private Limited and Pearlcot Enterprises. See Issues and Decision Memorandum at Comment 9. We refer to the companies, collectively, as Indocan.

Assessment Rates

Pursuant to section 751(a)(2) of the Act, and 19 CFR 351.212(b)(1), Commerce has determined, and CBP shall assess, antidumping duties on all appropriate entries covered by this review.

Because the weighted-average dumping margins for Allied and Indocan are not zero or de minimis (i.e., less than 0.5 percent), we calculated importer-specific ad valorem assessment rates based on the ratio of the total amount of dumping calculated for the examined sales to the total entered value of the sales. Where an importer-specific assessment rate is zero or de minimis, we will instruct CBP to liquidate the appropriate entries without regard to antidumping duties.

Consistent with Commerce's assessment practice, for entries of subject merchandise during the POR produced by Allied or Indocan for which they did not know their merchandise was destined for the United States, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

For the companies listed in Appendix II, we will instruct CBP to assess antidumping duties on any suspended entries that entered under the CBP case numbers of those companies (i.e., at those exporters' rates) at a rate equal to the cash deposit of estimated antidumping duties required at the time of entry, or withdrawal from warehouse, for consumption, during the POR.

For the companies that were not selected for individual examination (see Appendix III), we will assign an assessment rate based on the review-specific average rate, calculated as noted in the “Rate for Non-Examined Respondents” section above.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2) of the Act: (1) the cash deposit rates for Allied and Indocan will be the weighted-average dumping margins established in the final results of this administrative review; (2) for previously reviewed or investigated companies not listed above, the cash deposit rate will continue to be the company-specific rate published for the most recently completed segment of this proceeding; (3) if the exporter is not a firm covered in this review, a prior review, or the original less-than-fair-value (LTFV) investigation, but the producer has been covered in a prior completed segment of this proceeding, the cash deposit rate will be the company-specific rate established for the most recent period for the producer of the merchandise; and (4) the cash deposit rate for all other producers or exporters will continue to be 5.87 percent, as established in the original LTFV investigation.¹⁶ These cash deposit requirements, when imposed, shall remain in effect until further notice.

¹⁶ See Order, 87 FR at 35503.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: April 14, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Cost Methodology for Allied

Comment 2: Reporting Consistency With Normal Books and Records

Comment 3: Application of Transactions Disregarded Rule

Comment 4: Adjustments to Production Quantities

Comment 5: Profit and Selling Expenses for Constructed Value (CV)

Comment 6: Whether To Apply Total Adverse Facts Available (AFA) to Indocan

Comment 7: Correction of Ministerial Error

Comment 8: Revision to Home Market Indirect Selling Expense Ratio

Comment 9: Collapsing

Comment 10: Use of Importer Field in Calculations

VI. Recommendation

Appendix II

Companies for Which We Are Rescinding the Administrative Review

1. AA Food Factory

2. Alpro

3. Aone Enterprises

4. Apl Logistics

5. Bee Hive Farms

6. Dabur India Limited

7. Ess Pee Quality Products

8. Infinator Pvt., Ltd.

9. Natural Agro Foods

10. NYSA Agro Foods

11. Shan Organics

12. Sunlite Organic

13. UTMT

14. Vedic Systems

Appendix III

Companies Not Selected for Individual Examination

1. Ambrosia Natural Products (India) Private Limited/Ambrosia Enterprise/Sunlite India Agro Producer Co., Ltd.

2. Apis India Limited

3. Brij Honey Pvt., Ltd.

4. Ganpati Natural Products

5. GMC Natural Product

6. Hi Tech Natural Products India Ltd.

7. Kejriwal Bee Care India Private Limited

8. KK Natural Food Industries LLP

9. Salt Range Foods Pvt. Ltd.

10. Shakti Api Foods Private Limited

11. Shiv Apiaries

12. Yieppie Internationals

[FR Doc. 2025-06864 Filed 4-21-25; 8:45 am]

BILLING CODE 3510-DS-P